DEPARTMENT OF TRANSPORTATION

Surface Transportation Board

49 CFR Part 1137

[STB Ex Parte No. 637 (Sub-No. 1)]

Removal of Divisions of Revenue Regulations

AGENCY: Surface Transportation Board, DOT.

ACTION: Notice of proposed rulemaking; correction of prior document.

SUMMARY: The Surface Transportation Board (Board) is correcting its prior document by adding an ADDRESSES caption.

DATES: Comments are due June 5, 2003.

ADDRESSES: Send an original and 10 copies of comments referring to “Ex Parte No. 637 (Sub-No. 1)” to: Surface Transportation Board, 1925 K Street, NW., Washington, DC 20423-0001.

FOR FURTHER INFORMATION CONTACT: John Sado, (202) 565-1661. [Federal Information Relay Service for the hearing impaired: 1-800-877-8339.]

SUPPLEMENTARY INFORMATION: On May 6, 2003, at 68 FR 23947-23948, the Board published a notice of proposed rulemaking in this proceeding seeking comments but inadvertently omitting the ADDRESSES caption. The Board is here correcting that omission by including the relevant address information.

Dated: May 8, 2003.
By the Board, Vernon A. Williams, Secretary.
Vernon A. Williams,
Secretary.

[FR Doc. 03-12001 Filed 5-13-03; 8:45 am]

BILLING CODE 4915-00-P